DEPARTMENT OF VETERANS AFFAIRS

38 CFR Part 76

RIN 2900-AN43

U.S. Paralympics Monthly Assistance Allowance

AGENCY: Department of Veterans Affairs.

ACTION: Final rule.

SUMMARY: This document establishes Department of Veterans Affairs (VA) regulations regarding the payment of a monthly assistance allowance to veterans training to make the United States Paralympics team, as authorized by section 703 of the Veterans' Benefits Improvement Act of 2008. The rule requires submission of an application to establish eligibility for the allowance and certification by the United States Paralympics. VA will pay the allowance to a veteran with a service-connected or nonservice-connected disability if the veteran is competing for a slot on or selected for the United States Paralympics team or is residing at a United States Paralympics training center.

DATES: Effective Date: This final rule is effective April 15, 2011. The Director of the Office of the Federal Register approved the incorporation by reference of certain publications listed in this rule as of April 15, 2011.

FOR FURTHER INFORMATION CONTACT: Matt Bristol, Office of National Veterans Sports Programs and Special Events (002C), Department of Veterans Affairs, 810 Vermont Avenue, NW., Washington, DC 20420; (202) 461-7447. (This is not a toll-free number.)

SUPPLEMENTARY INFORMATION: On September 3, 2010, VA published a proposed rule in the Federal Register (75 FR 54069). We proposed to add a new 38 CFR part 76 to implement a monthly assistance allowance for certain disabled veterans who participate in programs or events sanctioned by the United States Paralympics (USP) or who reside at a USP training center. Congress authorized this allowance in 38 U.S.C. 322. As explained in the proposed rule, under section 322, VA may provide an allowance to a disabled veteran who is: (1) Invited by the USP to compete for a slot on, or selected for, the USP team, for any month or part of any month in which the veteran is training or competing in any event sponsored by the USP or the International Paralympic Committee (IPC); or (2) residing at a USP training center in connection with any paralympic training or competition. We proposed to define the term “disability” for the purposes of part 76 to mean “a service-connected or nonservice-connected disability, which meets the criteria prescribed by the IPC Classification Code and International Standards, November 2007 edition, available at http://www.paralympic.org/export/sites/default/IPC/IPC_Handbook/Section_2/2002_2_Classification_Code6.pdf, and qualifies the veteran for participation in a sport sanctioned by the [USP].” We proposed to incorporate by reference the IPC's code and standards. We explained that this document would be made available to the public via a VA-controlled source for purposes of the final rule, and that the definition might be changed accordingly. The document is now found at http://www4.va.gov/about_va/va_notices.asp. The Director of the Office of the Federal Register has approved the incorporation by reference and we have modified § 76.1 accordingly.

We also explained in the preamble to the proposed rule that we plan to make payments in full first to veterans with service-connected disabilities, and to allow retroactive payment for paralympic training, competition, or residence that occurred on or after October 1, 2009, if an application and appropriate certification are submitted to VA within 1 year of the effective date of this final rule. Further, we proposed to base the amount of the allowance payable to individuals on the rate paid as a subsistence allowance for a full-time institutional program under chapter 31 of title 38, United States Code, (See 38 U.S.C. 3108(b)), and to pay an individual for each day of qualified training, competition, or residence at 1/30 of the monthly rate, or on a monthly basis for a continuous month of qualified training, competition, or residence.

Interested persons were invited to submit written comments on the proposed rule on or before October 4, 2010. We received one comment from an individual. This commenter asserted that VA should not proceed with the rulemaking because it would cause negative effects. The commenter expressed concern that the rule will cause veterans to ignore real priorities, such as raising families, paying bills, and being good citizens. In addition, this commenter suggested that veterans are not deterred from competing due to financial limitations, but are instead simply setting their own priorities when deciding not to compete. The commenter would prefer that VA “urge veterans to seek mentors to hone their * * * priorities to achieve more for themselves and their families” instead of providing financial support. We do not agree with the commenter that the monthly assistance allowance will cause veterans to ignore other priorities, whether financial or otherwise. We are not aware of any evidence indicating that participation in paralympic sports causes veterans or other paralympic athletes to become poor citizens, and the commenter does not supply any such evidence. Rather than causing veterans to shirk responsibilities, we believe the monthly assistance allowance will provide sufficient funding to allow veterans to participate in paralympic training or competition while continuing to attend to their responsibilities. We also believe that participation in paralympic training or competition allows for adoption of an active, healthy lifestyle, and accordingly enhances veterans' rehabilitation following injury or disease.

To the extent the commenter objects to the payment of money to veterans for this purpose, we note that Congress has already authorized this benefit under 38 U.S.C. 322(d). To the extent the commenter believes mentorship programs are a more effective way to help veterans, we note that such programs would not be inconsistent with this rule. Therefore, we decline to withdraw or modify the rule based on this comment.

Unfunded Mandates

The Unfunded Mandates Reform Act of 1995 requires, at 2 U.S.C. 1532, that agencies prepare an assessment of anticipated costs and benefits before issuing any rule that may result in an expenditure by State, local, and Tribal governments, in the aggregate, or by the private sector, of $100 million or more (adjusted annually for inflation) in any given year. This final rule will have no such effect on State, local, and Tribal governments or on the private sector.

Paperwork Reduction Act

OMB assigns a control number for each collection of information it approves. Except for emergency approvals under 44 U.S.C. 3507(j), VA may not conduct or sponsor, and a person is not required to respond to, a collection of information unless it displays a currently valid OMB control number.

This document contains two provisions constituting a collection of information at 38 CFR 76.3(a) and (b) under the Paperwork Reduction Act (44 U.S.C. 3501-3521). In addition, we correct a clerical error in estimating the total annual reporting burden. In the proposed rule, we estimated a burden of 2,000 reporting hours for each collection of information. The correct reporting hours burden is 33 for each collection of information, not 2,000, which is the number of minutes. The Office of Management and Budget (OMB) has approved the information collection requirements for § 76.3(a) and (b) and has assigned OMB control number 2900-0760.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the OMB unless OMB waives such review, as any regulatory action that is likely to result in a rule that may: (1) Have an annual effect on the economy of $100 million or more or adversely affect in a material way the economy, a sector of the economy, productivity, competition, jobs, the environment, public health or safety, or State, local, or Tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order. The economic, interagency, budgetary, legal, and policy implications of this regulatory action have been examined, and it has been determined not to be a significant regulatory action under Executive Order 12866.

Regulatory Flexibility Act

The Secretary of Veterans Affairs hereby certifies that this final rule will not have a significant economic impact on a substantial number of small entities as they are defined in the Regulatory Flexibility Act, 5 U.S.C. 601-612. This final rule would primarily affect only individuals and would impose only a minor certification requirement upon the United States Paralympics. Therefore, this amendment is exempt pursuant to 5 U.S.C. 605(b) from the initial and final regulatory flexibility analysis requirements of sections 603 and 604.

Catalog of Federal Domestic Assistance

This final rule will not affect VA programs listed in the Catalog of Federal Domestic Assistance.

Signing Authority

The Secretary of Veterans Affairs, or designee, approved this document and authorized the undersigned to sign and submit the document to the Office of the Federal Register for publication electronically as an official document of the Department of Veterans Affairs. John R. Gingrich, Chief of Staff, Department of Veterans Affairs, approved this document on March 9, 2011, for publication.

List of Subjects in 38 CFR Part 76

Certification, Day care, Disabled, Eligibility, Incorporation by reference, Individuals with disabilities, Monthly assistance allowance, Over payment, Oversight, Physically challenged athletes, Service-connected disabilities, Sport event, Travel and transportation expenses, U.S. Paralympics training center, Veterans.

Dated: March 10, 2011.
Robert C. McFetridge,
Director, Regulation Policy and Management, Office of the General Counsel, Department of Veterans Affairs.

For the reasons set forth in the preamble of this final rule and of the notice of proposed rulemaking, VA amends 38 CFR chapter I to add a new part 76 to read as follows:

PART 76—MONTHLY ASSISTANCE ALLOWANCE FOR VETERANS IN CONNECTION WITH THE UNITED STATES PARALYMPICS

Sec.
76.1 Definitions.
76.2 Assistance allowance.
76.3 Application and certification.
76.4 Amount of allowance.

Authority: 38 U.S.C. 501, 322(d), and as stated in specific sections.

§ 76.1 Definitions.

For purposes of part 76, the following definitions apply:

Disability means a service-connected or nonservice-connected disability which meets the criteria prescribed by the International Paralympic Committee (IPC) Classification Code and International Standards, November 2007 edition, available at http://www.paralympic.org/export/sites/default/IPC/IPC_Handbook/Section_2/2008_2_Classification_Code6.pdf, and qualifies the veteran for participation in a sport sanctioned by the United States Paralympics. The IPC standards are incorporated by reference into this section with the approval of the Director of the Federal Register under 5 U.S.C. 552(a) and 1 CFR part 51. To enforce any edition other than that specified in this section, VA must publish notice of change in the Federal Register and the material must be available to the public.

(1) You may obtain a copy from the International Paralympic Committee at International Paralympic Committee, Adenauerallee 212-214, 53113 Bonn, Germany.

(2) All approved material is available for inspection at the Department of Veterans Affairs, Office of Regulation Policy and Management (02REG), Room 1063B, 810 Vermont Avenue, NW., Washington, DC 20420, or at the National Archives and Records Administration (NARA). For information on the availability of approved materials at NARA, call (202) 741-6030, or go to: http://www.archives.gov/federal_register/code_of_federal_regulations/ibr_locations.html. The IPC standards are also available here: http://www.va.gov/ABOUT_VA/docs/ParalympicClassificationCode.pdf.

(Authority: 38 U.S.C. 322(d))

Paralympic Training Center refers to the following locations: The United States Olympic Training Center at Chula Vista, California; the United States Olympic Training Center at Colorado Springs, Colorado; the United States Olympic Training Center at Lake Placid, New York; the Lakeshore Foundation in Birmingham, Alabama; and the University of Central Oklahoma in Edmond, Oklahoma.

(Authority: 38 U.S.C. 322(d))

§ 76.2 Assistance allowance.

(a) VA will pay an allowance to a veteran with a disability who is:

(1) Invited by the United States Paralympics (USP) to compete for a slot on, or selected for, the USP Team for any month or part of any month in which the veteran is training or competing in any event sponsored by the USP or the IPC; or

(2) Residing at a USP training center in connection with any paralympic training or competition for the period certified under § 76.3.

(b) In providing this allowance, VA will periodically assess funding for the allowance. If a periodic assessment reveals that funding is insufficient to pay all applicants, VA will first pay in full veterans with service-connected disabilities, and then pay others in full in the order in which their completed applications are received.

(Authority: 38 U.S.C. 322(d))

§ 76.3 Application and certification.

To receive an allowance—

(a) A veteran must submit a complete application identifying any dependents upon which a higher payable rate of allowance may be based; and

(b) USP must provide certification of the veteran's participation in training or competition sponsored by the USP or the IPC, or residence at a USP training center, for the period for which payment is requested. The certification must specify whether the payment is due for training, competition, or residence, and the dates of the training, competition, or residence for which payment is due.

(The Office of Management and Budget has approved the information collection provisions in this section under control number 2900-0760.

(Authority: 38 U.S.C. 322(d))

§ 76.4 Amount of allowance.

The following rules govern the amount of allowance payable to veterans under this section.

(a) Payment will be made at the rate paid for a full-time institutional program under chapter 31 of title 38, United States Code (Chapter 31) that is in effect for a period of certified participation, as prescribed by paragraph (b) of this section. (See 38 CFR 21.260.)

(b) Payment may be made for each day at 1/30 of the monthly rate to veterans who train or compete in USP or IPC sponsored events for each day of training or competition, or to veterans who reside at a USP training center, for each day of residence, or on a monthly basis at the monthly rate to veterans who train or compete continuously for a full month, or to veterans who reside at a USP training center for a full month.

(c) VA will pay the allowance at a rate paid to a veteran with dependents for a full-time Chapter 31 institutional program upon receipt of appropriate documentation that a veteran who qualifies for the allowance has dependents. (See 38 CFR 21.260.)

(Authority: 38 U.S.C. 322(d), 3108)

[FR Doc. 2011-5951 Filed 3-15-11; 8:45 am]

BILLING CODE 8320-01-P